DEPARTMENT OF STATE

[Public Notice: 7916]

Designation and Determination Pursuant to the Foreign Missions Act Concerning the Designation of Entities in the United States That Are Substantially Owned or Effectively Controlled by the Government of Azerbaijan as Foreign Missions and the Determination That Property Transactions on the Part of Such Entities Are Subject to Foreign Mission Act Regulation

In order to adjust for costs and procedures of obtaining benefits for the United States Embassy in Azerbaijan and to protect the interests of the United States, pursuant to the authority vested in the Secretary of State under the Foreign Missions Act, 22 U.S.C. 4301-4316 as amended (“the Act”), which has been delegated to me in accordance with the Department of State's Delegation of Authority No. 214, dated September 20, 1994, I hereby designate the State Oil Company of the Republic of Azerbaijan (SOCAR), an entity engaged in activities in the United States that is substantially owned or effectively controlled by the Government of Azerbaijan and all other entities, including any that are designated by the Department of State as “Miscellaneous Foreign Government Offices”, as “foreign missions” within the meaning of Section 4302(a)(3) of the Act. I also determine that the provisions of Section 4305 of the Act apply to the acquisition or disposition of real property by or on behalf of such entities.

Pursuant to Section 4305 of the Act, the aforementioned entities are obligated to notify and obtain the approval of the Department of State's Office of Foreign Missions (OFM) before finalizing a proposed acquisition of real property in the United States. Accordingly, all such proposals are subject to disapproval by OFM.

I further determine that such entities shall request approval of their proposed acquisitions of real property by transmitting an official letter to OFM, which at a minimum includes the following information:

1. The exact physical address of the property;

2. A description of the proposed use of the property; and

3. The name and contact information of an individual authorized to discuss the proposed property acquisition with OFM.

Prior to receiving a response from OFM concerning such requests, such entities may not enter into a contract for the purchase of real property, unless the agreement expressly states that its execution is subject to disapproval by the Department of State.

This determination will remain in effect until such time as the Department of State finalizes its acquisition of a new site in Baku, Azerbaijan, on which it can construct a secure, safe, and modern chancery compound.

Dated: May 31, 2012.
Eric J. Boswell,
Director, Office of Foreign Missions.

[FR Doc. 2012-13973 Filed 6-7-12; 8:45 am]

BILLING CODE 4710-43-P